DEPARTMENT OF DEFENSE

Defense Acquisition Regulations System

48 CFR Parts 204 and 244

RIN 0750-AF61

Defense Federal Acquisition Regulation Supplement; Closeout of Contract Files (DFARS Case 2006-D045)

AGENCY: Defense Acquisition Regulations System, Department of Defense (DoD).

ACTION: Final rule.

SUMMARY: DoD has issued a final rule amending the Defense Federal Acquisition Regulation Supplement (DFARS) to remove text addressing DoD procedures for closeout of contract files. Text on this subject has been relocated to the DFARS companion resource, Procedures, Guidance, and Information.

DATES: Effective Date: January 24, 2008.

FOR FURTHER INFORMATION CONTACT: Ms. Deborah Tronic, Defense Acquisition Regulations System, OUSD(AT&L)DPAP(DARS), IMD 3D139, 3062 Defense Pentagon, Washington, DC 20301-3062. Telephone 703-602-0289; facsimile 703-602-7887. Please cite DFARS Case 2006-D045.

SUPPLEMENTARY INFORMATION:

A. Background

This final rule revises DFARS 204.804 to remove text addressing DoD procedures for closeout of contract files. Text on this subject has been relocated to the DFARS companion resource, Procedures, Guidance, and Information (PGI), at http://www.acq.osd.mil/dpap/dars/dfarspgi/current/index.html. In addition, the rule amends DFARS 244.304 to clarify an existing reference to corresponding PGI text.

DoD published a proposed rule at 72 FR 14256 on March 27, 2007. DoD received no comments on the proposed rule. Therefore, DoD has adopted the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule pertains to administrative procedures for contract closeout functions performed by the Government.

C. Paperwork Reduction Act

The Paperwork Reduction Act does not apply, because the rule does not impose any information collection requirements that require the approval of the Office of Management and Budget under 44 U.S.C. 3501, et seq.

List of Subjects in 48 CFR Parts 204 and 244

Government procurement.

Michele P. Peterson,
Editor, Defense Acquisition Regulations System.

Therefore, 48 CFR parts 204 and 244 are amended as follows:

1. The authority citation for 48 CFR parts 204 and 244 continues to read as follows:

Authority: 41 U.S.C. 421 and 48 CFR Chapter 1.

PART 204—ADMINISTRATIVE MATTERS

2. Section 204.804 is revised to read as follows:

204.804 Closeout of contract files.

Contracting officers shall close out contracts in accordance with the procedures at PGI 204.804. The closeout date for file purposes shall be determined and documented by the procuring contracting officer.

204.804-1 and 204.804-2 [Removed]

3. Sections 204.804-1 and 204.804-2 are removed.

PART 244—SUBCONTRACTING POLICIES AND PROCEDURES

4. Section 244.304 is amended in paragraph (b) by revising the second sentence to read as follows:

244.304 Surveillance.

(b) * * * See PGI 244.304(b) for guidance on how weaknesses may arise and may be discovered.

[FR Doc. E8-1093 Filed 1-23-08; 8:45 am]

BILLING CODE 5001-08-P